GENERAL SERVICES ADMINISTRATION

Federal Travel Regulation (FTR); Relocation Allowances—Relocation Income Tax Allowance (RITA) Tables; Notice of FTR Bulletin 09-04

AGENCY: Office of Governmentwide Policy, General Services Administration (GSA).

ACTION: Notice of a bulletin.

SUMMARY: This notice announces Federal Travel Regulation (FMR) Bulletin 09-04 which provides the 2008 Federal State, and Puerto Rico tax tables needed for calculating the relocation income tax (RIT) allowance. FTR Bulletin 09-04 and all other FTR Bulletins may be found at http://www.gsa.gov/ftrbulletins. The tax tables may also be found at http://www.gsa.gov/relo.

DATES: The bulletin announced in this notice became effective February 25, 2009.

FOR FURTHER INFORMATION CONTACT: Mr. Ed Davis, Office of Governmentwide Policy (M), Office of Travel, Transportation, and Asset Management (MT), General Services Administration at (202) 208-7638 or via e-mail at ed.davis@gsa.gov. Please cite FTR Bulletin 09-04.

SUPPLEMENTARY INFORMATION:

A. Background

On June 25, 2008 the General Services Administration (GSA) published FTR Amendment 2008-04 in the Federal Register (73 FR 35952) specifying that the General Services Administration (GSA) would no longer publish the RITA tables found in 41 CFR part 301-17 Appendices A through D in the Federal Register.

B. Procedures

Bulletins regarding relocation policy are located on the Internet at http://www.gsa.gov/ftrbulletins as Federal Travel Regulation (FTR) bulletins.

Dated: February 27, 2009.
Henry Maury,
Director, Relocation Policy.

[FR Doc. E9-4840 Filed 3-6-09; 8:45 am]

BILLING CODE 6820-14-P